NATIONAL SCIENCE FOUNDATION

Notice of Permit Modification Received Under the Antarctic Conservation Act of 1978

AGENCY: National Science Foundation.

ACTION: Notice of permit modification request received and permit issued.

SUMMARY: The National Science Foundation (NSF) is required to publish a notice of requests to modify permits issued to conduct activities regulated and permits issued under the Antarctic Conservation Act of 1978. NSF has published regulations under the Antarctic Conservation Act in the Code of Federal Regulations. This is the required notice of a requested permit modification and permit issued.

FOR FURTHER INFORMATION CONTACT: Nature McGinn, ACA Permit Officer, Office of Polar Programs, National Science Foundation, 2415 Eisenhower Avenue, Alexandria, VA 22314; 703-292-8224; email: ACApermits@nsf.gov.

SUPPLEMENTARY INFORMATION: The National Science Foundation (NSF), as directed by the Antarctic Conservation Act of 1978 (Pub. L. 95-541, 45 CFR 671), as amended by the Antarctic Science, Tourism and Conservation Act of 1996, has developed regulations for the establishment of a permit system for various activities in Antarctica and designation of certain animals and certain geographic areas requiring special protection.

1. NSF issued a permit (ACA 2018-027) to Bradford Clement on January 2, 2018. The issued permit allows the permit holder to conduct activities associated with conducting four International Ocean Discovery Program (IODP) expeditions in the Antarctic and Southern Ocean waters. The permit holder is permitted to release or potentially release beacon weights, drilling mud, rotary core barrel coring bits, free fall funnels/re-entry cones, borehole casing, wiper pigs, and small amounts of fluorescent microspheres as a result of the normal operations of the JOIDES Resolution ocean drilling ship. Other standard hardware lowered below or over the side of the vessel would be retrieved, but may be subject to unintentional release.

Now the applicant proposes a permit modification to add the use of perfluorocarbon tracers (PFTs), which are nontoxic and inert, to facilitate microbiological analyses of the cores. PFTs would be introduced into the drilling process by pumping them into the drilling fluid at a constant concentration of 1 mg/L. PFT use would be conducted on select holes or during parts of the coring process as dictated by the science party. PFTs used would be perfluoromethylcyclohexane (PMCH) or perfluoromethyldecalin (PFMD) depending on availability and/or preference of the science party. The Environmental Officer has reviewed the modification request and has determined that the amendment is not a material change to the permit, and it will have a less than a minor or transitory impact.

Dates of Permitted Activities: December 21, 2018-July 20, 2019.

The permit modification was issued on December 21, 2018.

2. NSF issued a permit (ACA 2015-011) to Ari Friedlaender on December 3, 2014. The issued permit allows the permit holder to take biopsy samples and photographs for identification of humpback (n=200 biopsy & photo-ID), Antarctic minke (n=50 biopsy; 200 photo-ID), killer (n=50; 200 photo-ID), and Arnoux's beaked (n=50; 200 photo-ID) whales in the Southern Ocean. The permit also allowed for 10 satellite-tagging takes of humpback whales.

A modification to this permit, dated December 31, 2015, allowed the permit holder to increase the number of satellite-tagging takes of humpback whales to 20 and to add 10 dart tag takes and 20 suction cup tag takes for both humpbacks and Antarctic minke whales.

Another modification, dated March 27, 2018, allowed increased biopsy takes to 250 for all four whale species listed on the original permit. Of those 250 biopsy takes, 50 would be associated with approaches that would also include tagging and the remaining 200 biopsy takes would occur during approaches that do not involve tagging. The modification also increased the number of dart tag takes of humpback whales (from 10 to 30) and Antarctic minke whales (from 10 to 20) and increase the number of suction cup tagging takes of Antarctic minke whales from 20 to 30. In addition, the permit holder was allowed takes for dart tagging (n=10) and suction cup tagging (n=40) of Arnoux's beaked whales as well as 50 suction cup tagging takes for killer whales. Finally, the permit holder added southern right whales to his ACA permit and is requesting 250 biopsy takes, 200 photo-ID takes, and 50 suction cup tagging takes for this species.

Now, the permit holder has requested an extension of the permit expiration date with the new expiry date of March 31, 2019. This ACA permit modification would be consistent with the expiration date of the National Marine Fisheries Service Permit No. 14809-03 on which the ACA permit holder is an approved Co-Investigator.

The Environmental Officer has reviewed the modification request and has determined that the amendment is not a material change to the permit, and it will have a less than a minor or transitory impact. The permit holder is hereby authorized to conduct permitted activities until March 31, 2019.

Please note that the permit holder sought and was granted this expiration date extension in December 2018, prior to the original permit expiration of December 31, 2018. As such, there was no lapse in permitting of allowed activities. The formal issuance of this modification was delayed by the lapse in federal government appropriations and completed upon resumption of government operations on January 28, 2019.

Dates of Permitted Activities: January 1-March 31, 2019.

The permit modification was issued on January 28, 2019.

3. NSF issued a waste management permit to Brandon Harvey, Director, Expedition Operations, Polar Latitudes, Inc. on November 2, 2017. Under that permit (ACA #2018-015), Polar Latitudes was permitted to conduct waste management activities associated with coastal camping and operating remotely piloted aircraft systems (RPAS) In the Antarctic Peninsula region. Coastal overnight camping of no more than 30 campers and two expedition staff for a maximum of 10 hours ashore. Camping must be away from vegetated sites and at least 150 meters from wildlife concentrations or lakes, protected areas, historical sites, and scientific stations. The permit holder engages experienced pilots to fly small, battery-operated, remotely controlled quadcopter equipped with cameras to capture aerial footage for commercial and educational uses. The permit expires March 30, 2022.

On September 4, 2018, Polar Latitudes provided NSF an update (attached) based on activities planned for the 2018-2019 field season. The activities are the same or similar as those detailed in the original permit. Hayley Shephard now holds the position of Director of Expedition Operations. In addition, coastal camping should no longer occur in close proximity to Almirante Brown/Brown Base.

Now the permit holder is requesting a modification of the permit to cover accidental releases that may result from the conduct of whale-tagging and environmental sampling research activities aboard the MS ISLAND SKY, March 5-12, 2019. The research, led by Daniel Zitterbart as part of an expedition within an expedition, would involve equipment including whale tags, a carbon-fiber pole, an echosounder, a small tow net, a CTD instrument, and a hydrophone. The intent would be to deploy and retrieve all equipment during the course of the research.

The Environmental Officer has reviewed the modification request and has determined that the amendment is not a material change to the permit, and it will have a less than a minor or transitory impact. The permit holder is hereby authorized to conduct waste management activities associated with whale-tagging research on the MS ISLAND SKY in March 2019.

Dates of Permitted Activities: March 5-12, 2019.

The permit modification was issued on February 25, 2019.

Erika N. Davis,
Program Specialist, Office of Polar Programs.

[FR Doc. 2019-03870 Filed 3-4-19; 8:45 am]

BILLING CODE 7555-01-P